OFFICE OF THE UNITED STATES TRADE REPRESENTATIVE

Generalized System of Preferences (GSP); Copper Wire Bars From Russia

AGENCY: Office of the United States Trade Representative.

ACTION: Notice of correction.

SUMMARY: The purpose of this notice is to correct the Harmonized Tariff Schedule of the United States (HTS) to reflect the correct treatment under the GSP program of refined copper wire bars imported from Russia.

FOR FURTHER INFORMATION CONTACT: GSP subcommittee, Office of the United States Trade Representative, 600 17th Street, NW, Room 518, Washington, DC 20508 (Tel. 202/395-6971).

EFFECTIVE DATE: The correction made in this notice is effective with respect to articles entered, or withdrawn from warehouse for consumption, on or after July 1, 1999.

SUPPLEMENTARY INFORMATION: The GSP program grants duty-free treatment to designated eligible articles that are imported from certain developing countries. The GSP program is authorized by Title V of the Trade Act of 1974, as amended (“Trade Act”) (19 U.S.C. 2461 et seq). Each year, certain products from eligible countries are excluded from GSP treatment to the extent imports of those products have exceeded the applicable competitive need limits (CNL) during the previous year (19 U.S.C. 2463 (2)(A)). Based on import data from the U.S. Bureau of Census showing that imports of refined copper wire bars (HTS subheading 7403.12.00) from Russia had exceeded the applicable CNL, the President revoked duty-free treatment for those articles beginning July 1, 1999. (Proclamation 206, 64 FR 36229, 36234 (July 2, 1999); 64 FR 36952 (July 8, 1999)). Revised Bureau of Census statistics show that imports of copper wire bars from Russia did not exceed the applicable CNL and thus that duty-free treatment for those articles should not have been withdrawn.

Accordingly, pursuant to authority granted by Congress to the President in section 604 of the Trade Act (19 U.S.C. 2483) and delegated by the President to the United States Trade Representative in Proclamation 6969 of January 27, 1997 (62 FR 4415), effective with respect to articles entered, or withdrawn from warehouse for consumption, on or after July 1, 1999, general note 4(d) to the Harmonized Tariff Schedule of the United States is modified by striking “; Russia” after subheading 7403.12.00 in the enumeration of designated beneficiary countries that are ineligible to receive GSP benefits for that tariff provision.

Requests for application of the tariff modification and duty treatment provided for herein must contain sufficient information to enable the Customs Service to identify each relevant entry (including but not limited to the entry number for the shipment concerned).

Charlene Barshefsky,
United States Trade Representative.

[FR Doc. 00-16061 Filed 6-23-00; 8:45 am]

BILLING CODE 3190-01-M